SECURITIES AND EXCHANGE COMMISSION

Issuer Delisting: Notice of Application To Withdraw From Listing and Registration on the Boston Stock Exchange (Nevada Gold & Casinos, Inc., Common Stock, $.12 Par Value) File No. 1-5517

August 1, 2001.

Nevada Gold & Casinos, Inc., a Nevada corporation (“Issuer”), has filed an application with the Securities and Exchange Commission (“Commission”), pursuant to Section 12(d) of the Securities Exchange Act of 1934 ¹ (“Act”) and Rule 12d2-2(c) thereunder,² to withdraw it from Common Stock, $.12 par value (“Security”) from listing and registration on the Boston Stock Exchange (“BSE”).

¹ 15 U.S.C. 78l(d).

² 17 CFR 240.12d2-2(c).

The Issuer stated in its application that the Security has been quoted on the OTC Bulletin Board since 1994. In making the decision to withdraw the Security from listing and registration on the BSE, the Issuer considered the liquidity provided by the BSE and the cost associated with maintaining such listing. The Issuer believes that market makers will continue to quote the Security on the OTC Bulletin Board so that holders of the Security are provided with accessible and liquid markets. The Issuer's application relates solely to the Security's withdrawal from listing and registration on the BSE and shall not affect its obligation to be registered under Section 12(g) of the Act.³

³ 15 U.S.C. 78l(g).

Any interested person may, on or before August 23, 2001 submit by letter to the Secretary of the Securities and Exchange Commission, 450 Fifth Street, NW., Washington, DC 20549-0609, facts bearing upon whether the application has been made in accordance with the rules of the BSE and what terms, if any, should be imposed by the Commission for the protection of investors. The Commission, based on the information submitted to it, will issue an order granting the application after the date mentioned above, unless the Commission determines to order a hearing on the matter.

For the Commission, by the Division of Market Regulation, pursuant to delegated authority.⁴

⁴ 17 CFR 200.30-3(a)(1).

Jonathan G. Katz,
Secretary.

[FR Doc. 01-19829 Filed 8-7-01; 8:45 am]

BILLING CODE 8010-01-M